DEPARTMENT OF COMMERCE

International Trade Administration

A-570-601, A-427-801, A-428-801, A-475-801, A-588-804, A-412-801

Tapered Roller Bearings and Parts Thereof from the People's Republic of China and Ball Bearings and Parts Thereof from France, Germany, Italy, Japan, and the United Kingdom: Continuation of Antidumping Duty Orders

AGENCY: Import Administration, International Trade Administration, Department of Commerce.

SUMMARY: As a result of the determinations by the Department of Commerce (“Department”) and the International Trade Commission (“ITC”) that revocation of the antidumping duty orders on tapered roller bearings and parts thereof from the People's Republic of China (“PRC”) and ball bearings and parts thereof from France, Germany, Italy, Japan, and the United Kingdom would be likely to lead to continuation or recurrence of dumping and of material injury to an industry in the United States, pursuant to section 751(c) of the Tariff Act of 1930, as amended (“Act”), within a reasonably foreseeable time, the Department hereby orders the continuation of these antidumping duty orders and is publishing notice of the continuation of these antidumping duty orders.

EFFECTIVE DATE: September 15, 2006.

FOR FURTHER INFORMATION CONTACT: Hilary E. Sadler, Esq. or Juanita Chen, Office 8 (tapered roller bearings), telephone: (202) 482-4340 or (202) 482-1904, respectively; and Edythe Artman or Minoo Hatten, Office 5 (ball bearings), telephone: (202) 482-3931 and (202) 482-1690, respectively, AD/CVD Operations, Import Administration, International Trade Administration, U.S. Department of Commerce, 14th Street & Constitution Avenue, NW., Washington, DC 20230.

SUPPLEMENTARY INFORMATION:

Background

On June 1, 2005, the Department initiated and the ITC instituted the second sunset reviews of the antidumping duty orders on tapered roller bearings and parts thereof from the PRC and ball bearings and parts thereof from France, Germany, Italy, Japan, and the United Kingdom pursuant to section 751(c) of the Act. See Initiation of Five-Year (“Sunset”) Reviews, 70 FR 31423 (June 1, 2005), and Certain Bearings From China, France, Germany, Italy, Japan, Singapore, and the United Kingdom, 70 FR 31531 (June 1, 2005). As a result of its reviews, the Department found that revocation of the antidumping duty orders would be likely to lead to continuation or recurrence of dumping and notified the ITC of the magnitude of the margins likely to prevail were the orders to be revoked. See Tapered Roller Bearings from the People's Republic of China: Notice of Final Results of Expedited Sunset Review of Antidumping Duty Order, 70 FR 58383 (October 6, 2005), Antifriction Bearings and Parts Thereof from France, Germany, Italy, and the United Kingdom; Five-Year Sunset Reviews of Antidumping Duty Orders; Final Results, 70 FR 58183 (October 5, 2005), Ball Bearings and Parts Thereof from Japan and Singapore; Five-year Sunset Reviews of Antidumping Duty Orders; Final Results, 71 FR 26321 (May 4, 2006), and Ball Bearings and Parts Thereof from Japan; Five-year Sunset Review of Antidumping Duty Order; Amended Final Results, 71 FR 30378 (May 26, 2006). On August 3, 2006, the ITC determined, pursuant to section 751(c) of the Act, that revocation of the antidumping duty orders on tapered roller bearings and parts thereof from the PRC and ball bearings and parts thereof from France, Germany, Italy, Japan, and the United Kingdom would be likely to lead to continuation or recurrence of material injury to an industry in the United States within a reasonably foreseeable time. See Certain Bearings From China, France, Germany, Italy, Japan, Singapore, and the United Kingdom, 71 FR 51850 (August 31, 2006), and ITC Publication 3876 (August 2006) (Investigation Nos. 731-TA-344, 391-A, 392-A and C, 393-A, 394-A, 396, and 399-A (Second Review)).

Scope of the Orders

Tapered Roller Bearings: Imports covered by this order are shipments of tapered roller bearings and parts thereof, finished and unfinished, from the PRC; flange, take up cartridge, and hanger units incorporating tapered roller bearings; and tapered roller housings (except pillow blocks) incorporating tapered rollers, with or without spindles, whether or not for automotive use. These products are currently classifiable under Harmonized Tariff Schedule of the United States (“HTSUS”) item numbers 8482.20.00, 8482.91.00.50, 8482.99.30, 8483.20.40, 8483.20.80, 8483.30.80, 8483.90.20, 8483.90.30, 8483.90.80, 8708.99.80.15 and 8708.99.80.80. Although the HTSUS item numbers are provided for convenience and customs purposes, the written description of the scope of the order is dispositive.

Ball Bearings: The products covered by these orders are ball bearings and parts thereof. These products include all bearings that employ balls as the rolling element. Imports of these products are classified under the following categories: antifriction balls, ball bearings with integral shafts, ball bearings (including radial ball bearings) and parts thereof, and housed or mounted ball bearing units and parts thereof.

Imports of these products are classified under the following HTSUS subheadings: 3926.90.45, 4016.93.00, 4016.93.10, 4016.93.50, 6909.19.5010, 8431.20.00, 8431.39.0010, 8482.10.10, 8482.10.50, 8482.80.00, 8482.91.00, 8482.99.05, 8482.99.2580, 8482.99.35, 8482.99.6595, 8483.20.40, 8483.20.80, 8483.50.8040, 8483.50.90, 8483.90.20, 8483.90.30, 8483.90.70, 8708.50.50, 8708.60.50, 8708.60.80, 8708.70.6060, 8708.70.8050, 8708.93.30, 8708.93.5000, 8708.93.6000, 8708.93.75, 8708.99.06, 8708.99.31, 8708.99.4960, 8708.99.50, 8708.99.5800, 8708.99.8080, 8803.10.00, 8803.20.00, 8803.30.00, 8803.90.30, and 8803.90.90.

Although the HTSUS subheadings above are provided for convenience and customs purposes, written descriptions of the scope of these orders remain dispositive.

The size or precision grade of a bearing does not influence whether the bearing is covered by one of the orders. These orders cover all the subject bearings and parts thereof (inner race, outer race, cage, rollers, balls, seals, shields, etc.) outlined above with certain limitations. With regard to finished parts, all such parts are included in the scope of the these orders. For unfinished parts, such parts are included if (1) they have been heat-treated, or (2) heat treatment is not required to be performed on the part. Thus, the only unfinished parts that are not covered by these orders are those that will be subject to heat treatment after importation. The ultimate application of a bearing also does not influence whether the bearing is covered by the orders. Bearings designed for highly specialized applications are not excluded. Any of the subject bearings, regardless of whether they may ultimately be utilized in aircraft, automobiles, or other equipment, are within the scope of these orders.

For a listing of scope determinations that pertain to the ball bearings orders, see the “Scope Determination” Memorandum (“Scope Memorandum”) from the Antifriction Bearings Team to Laurie Parkhill, dated March 2, 2006. The Scope Memorandum is on file in the Central Records Unit, Main Commerce Building, Room B-099, in the General Issues record (A-100-001) for the 2004/2005 reviews.

Determination

As a result of the determinations by the Department and ITC that revocation of these antidumping duty orders would be likely to lead to continuation or recurrence of dumping and material injury to an industry in the United States, pursuant to sections 751(d)(2)(A) and (B) of the Act, the Department hereby orders the continuation of the antidumping duty orders on tapered roller bearings and parts thereof from the PRC and ball bearings and parts thereof from France, Germany, Italy, Japan, and the United Kingdom.

U.S. Customs and Border Protection will continue to collect antidumping duty cash deposits at the rates in effect at the time of entry for all imports of subject merchandise.

The effective date of continuation of these orders will be the date of publication in the Federal Register of this notice of continuation. Pursuant to sections 751(c)(2) and 751(c)(6) of the Act, the Department intends to initiate the next five-year reviews of these orders not later than July 2011.

These sunset reviews and this continuation notice are in accordance with section 751(c) of the Act and are published pursuant to section 777(i)(1) of the Act.

Dated: September 7, 2006.
David M. Spooner,
Assistant Secretary for Import Administration.

[FR Doc. E6-15355 Filed 9-14-06; 8:45 am]

Billing Code: 3510-DS-S